DEPARTMENT OF COMMERCE

International Trade Administration

[C-489-806]

Certain Pasta From Turkey: Rescission of Countervailing Duty Administrative Review; 2011

AGENCY: Import Administration, International Trade Administration, Department of Commerce.

SUMMARY: The Department of Commerce (the “Department”) is rescinding its administrative review of the countervailing duty order on certain pasta (“pasta”) from Turkey for the period January 1, 2011, through December 31, 2011.

DATES: Effective Date: October 19, 2012.

FOR FURTHER INFORMATION CONTACT: David Layton at 202-482-0371 or Christopher Siepmann at 202-482-7958, AD/CVD Operations, Office 1, Import Administration, International Trade Administration, U.S. Department of Commerce, 14th Street and Constitution Avenue NW., Washington, DC 20230.

SUPPLEMENTARY INFORMATION:

Background

On July 2, 2012, the Department published a notice of opportunity to request an administrative review of the countervailing duty order on pasta from Turkey for the period of review January 1, 2011, through December 31, 2011.¹ On July 31, 2012, Marsan Gida Sanayi ve Ticaret A.Ş. (“Marsan”), Bellini Gida Sanayi A.Ş. (“Bellini”) and Eksper Gida Pazarlama San. ve Tic. A.Ş. (“Eksper”) requested that the Department conduct a review of those companies.²

¹ See Antidumping or Countervailing Duty Order, Finding, or Suspended Investigation; Opportunity To Request Administrative Review, 77 FR 39216 (July 2, 2012).

² See Letter from Marsan, Bellini and Eksper to the Department, “Request for Administrative Review” (July 31, 2012).

On August 30, 2012, in accordance with 19 CFR 351.221(c)(1)(i), the Department initiated an administrative review of the countervailing duty order on pasta from Turkey covering Marsan, Bellini and Eksper.³

³ See Initiation of Antidumping and Countervailing Duty Administrative Reviews and Requests for Revocation in Part, 77 FR 52688 (August 30, 2012).

On September 27, 2012, Marsan, Bellini and Eksper withdrew their request for an administrative review.⁴

⁴ See Letter from Marsan, Bellini and Eksper to the Department, “Withdrawal of Request for Administrative Review” (September 27, 2012).

Rescission of Review

Pursuant to 19 CFR 351.213(d)(1), the Secretary will rescind an administrative review, in whole or in part, if the parties that requested a review withdraw the request within 90 days of the date of publication of the notice initiating the review. Marsan, Bellini and Eksper withdrew their request for review within the 90-day deadline. No other interested party requested an administrative review of Marsan, Bellini, Eksper, or any other entity. Therefore, in accordance with 19 CFR 351.213(d)(1), we are rescinding this review in its entirety.

Assessment

The Department will instruct U.S. Customs and Border Protection (“CBP”) to assess countervailing duties on all entries of pasta from Turkey at rates equal to the cash deposit of estimated countervailing duties required at the time of entry or withdrawal from warehouse for consumption, in accordance with 19 CFR 351.212(c)(1)(i). The Department intends to issue appropriate assessment instructions to CBP 15 days after the date of publication of this notice of rescission of administrative review.

Notification Regarding Administrative Protective Order

This notice also serves as a final reminder to parties subject to administrative protective order (“APO”) of their responsibility concerning the disposition of proprietary information disclosed under an APO in accordance with 19 CFR 351.305(a)(3). Timely written notification of the return/destruction of APO materials or conversion to judicial protective order is hereby requested. Failure to comply with the regulations and terms of an APO is a sanctionable violation.

This notice is issued and published in accordance with sections 751(a)(1) and 777(i)(1) of the Tariff Act of 1930, as amended, and 19 CFR 351.213(d)(4).

Dated: October 12, 2012.
Christian Marsh,
Deputy Assistant Secretary for Antidumping and Countervailing Duty Operations.

[FR Doc. 2012-25847 Filed 10-18-12; 8:45 am]

BILLING CODE 3510-DS-P